DEPARTMENT OF AGRICULTURE

Food Safety and Inspection Service

9 CFR Ch. III

[Docket No. 04-040N]

Regulatory Flexibility Act; Amended Plan for Reviewing Regulations Under Section 610 Requirements

AGENCY: Food Safety and Inspection Service (FSIS), USDA.

ACTION: Schedule of regulations to be reviewed under section 610 requirements of the Regulatory Flexibility Act; amended.

SUMMARY: The Food Safety and Inspection Service (FSIS) is publishing an amended scheduling plan for reviewing regulations under Section 610 of the Regulatory Flexibility Act, as amended. These provisions require that all Federal agencies review existing regulations that have a significant economic impact on a substantial number of small entities to determine whether the associated impact can be minimized.

FOR FURTHER INFORMATION CONTACT: For further information contact Dr. Quita Bowman Blackwell, Director, Directives and Economic Analysis Staff, FSIS, U.S. Department of Agriculture, 300 12th Street, SW, Room 112, Washington, DC 20250-3700, (202) 720-5627.

SUPPLEMENTARY INFORMATION:

Background

Section 610 of the Regulatory Flexibility Act (RFA), as amended (5 U.S.C. 601-612), requires that all Federal agencies review any regulations that have been identified as having a significant economic impact upon a substantial number of small entities as a means to determine whether the associated impact can be minimized by considering the following factors: (1) The continued need for the rule; (2) the nature of the complaints or comments received concerning the rule from the public; (3) the complexity of the rule; (4) the extent to which the rule overlaps, duplicates, or conflicts with other Federal rules; and (5) the length of time since the rule has been initially evaluated or the degree to which technology, economic conditions, or other factors have changed in the area affected by the rule.

On April 2, 2002, FSIS published in the Federal Register (67 FR 15501) a scheduling plan for reviewing regulations under the 610 provisions. At that point, the Agency had determined to review all rules deemed economically significant, regardless of whether the Agency had stated that the rule would impose a significant economic impact on a substantial number of small entities or not. After further consideration, FSIS now believes that it would be more effective and beneficial if the Agency concentrated its reviews under Section 610 of the RFA on those final and interim final rules that the Agency has identified as having a significant economic impact on a substantial number of small entities.

Accordingly, FSIS has amended its plan for reviewing the Agency rules that it has identified as having a significant economic impact on a substantial number of small entities.

Schedule of FSIS’ Regulations Identified for Review Under the RFA'S 610 Provisions
CFR parts affected and legal authority | Regulation title | Publication citation and date | Review date
9 CFR 304, 308, 310, 320, 327, 381, 416, 417; 21 U.S.C. 451-470, 601-695; 7 CFR 2.18, 2.53 | Pathogen Reduction; Hazard Analysis and Critical Control Point (HACCP) Systems | 61 FR 38806; July 25, 1996 | 2005
9 CFR 430; 7 U.S.C. 450; 7 U.S.C. 1901-1906; 21 U.S.C. 451-470, 601-695; 7 CFR 2.18, 2.53 | Control of Listeria monocytogenes in Ready-to-Eat Meat and Poultry Products | 68 FR 34208; June 6, 2003 | 2007
9 CFR 309, 310, 311, 318, 319; 21 U.S.C. 601-695; 7 U.S.C. 138f, 450, 1901-1906; 7 CFR 2.17, 2.18, 2.53, 2.55 | Prohibition of the Use of Specified Risk Materials for Human Food and Requirements for the Disposition of Non-Ambulatory Disabled Cattle | 69 FR 1862; January 12, 2004 | 2008
9 CFR 301, 318, 320; 21 U.S.C. 601-695; 7 U.S.C. 138f, 450, 1901-1906; 7 CFR 2.7, 2.18, 2.53 | Meat Produced by Advanced Meat/Bone Separation Machinery and Meat Recovery (AMR) Systems | 69 FR 1874; January 12, 2004 | 2009

Additional Public Notification

Public awareness of all segments of rulemaking and policy development is important. Consequently, in an effort to ensure that the public and in particular minorities, women, and persons with disabilities, are aware of this notice, FSIS will announce it on-line through the FSIS Web page located at http://www.fsis.usda.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included.

The update also is available on the FSIS web page. Through Listserv and the web page, FSIS is able to provide information to a much broader, more diverse audience.

Done at Washington, DC, on January 24, 2005.
Barbara J. Masters,
Acting Administrator.

[FR Doc. 05-1613 Filed 1-27-05; 8:45 am]

BILLING CODE 3410-DM-P